DEPARTMENT OF TRANSPORTATION

National Highway Traffic Safety Administration

[NHTSA Docket No. NHTSA-2009-0058]

National Emergency Medical Services Advisory Council (NEMSAC); Notice of teleconference meeting.

AGENCY: National Highway Traffic Safety Administration (NHTSA), Department of Transportation (DOT).

ACTION: National Emergency Medical Services Advisory Council (NEMSAC); Notice of teleconference meeting.

SUMMARY: The NHTSA announces a teleconference meeting of NEMSAC to be held in April 2009. This notice announces the date, time and call-in information for the meeting, which will be open to the public. The purpose of NEMSAC is to provide a nationally recognized council of emergency medical services representatives and consumers to provide advice and recommendations regarding Emergency Medical Services (EMS) to the U.S. DOT's NHTSA.

DATES: The teleconference meeting will be held on April 16, 2009, from 1 p.m. to 3 p.m. A public comment period will take place on April 16, 2009, between 2:15 p.m. to 2:30 p.m.

Comment Date: Written comments or requests to make oral presentations must be received by April 9, 2009.

ADDRESSES: The meeting will be held via teleconference only. Members of the public who wish to obtain the call-in number, access code, and other information for the public teleconference may contact Drew Dawson as listed in the FOR FURTHER INFORMATION CONTACT section by April 9, 2009. Persons wishing to make an oral presentation or who are unable to join the teleconference meeting may submit written comments. Written comments and requests to make oral presentations at the meeting should reach Drew Dawson at the address listed below and must be received by April 9, 2009.

All submissions received must include the docket number, NHTSA-2009-0058, and may be submitted by any one of the following methods: You may submit or retrieve comments Online through the Document Management System (DMS) at http://www.regulations.gov/ under the docket number listed at the beginning of this notice. The DMS is available 24 hours each day, 365 days each year. Electronic submission and retrieval help guidelines are available under the help section of the Web site.

An electronic copy of this document may be downloaded from the Federal Register's home page at http://www.archives.gov and the Government Printing Office's database at http://www.access.gpo.gov/nara. Please note that even after the comment closing date, we will continue to file relevant information in the docket as it becomes available.

E-mail: drew.dawson@dot.gov or susan.mchenry@dot.gov.

Fax: (202) 366-7149.

FOR FURTHER INFORMATION CONTACT: Drew Dawson, Director, Office of Emergency Medical Services, National Highway Traffic Safety Administration, 1200 New Jersey Avenue, SE., NTI-140, Washington, DC 20590, Telephone number (202) 366-9966; E-mail Drew.Dawson@dot.gov.

SUPPLEMENTARY INFORMATION: Notice of this meeting is given under the Federal Advisory Committee Act (FACA), Public Law 92-463, as amended (5 U.S.C. App. 1 et seq.) The NEMSAC will be holding its fifth meeting on Thursday, April 16, 2009, via teleconference.

Agenda of Council Teleconference Meeting, April 16, 2009

The tentative agenda includes the following:

Thursday, April 16, 2009.

(1) Opening Remarks—Chair and DFO;

(2) Introduction of Members and all in attendance;

(3) Review and Approval of Minutes of last Meeting;

(4) Committee Reports and Discussion.

(5) Public Comment Period;

(6) Next Steps and Future Meetings.

A public comment period will take place on April 16, 2009, between 2:15 p.m. and 2:30 p.m. Public Attendance: The meeting is open to the public. Persons with disabilities who require special assistance should advise Drew Dawson of their anticipated special needs as early as possible. Members of the public who wish to make comments on Thursday, April 16 between 2:15 p.m. and 2:30 p.m. are requested to register in advance. In order to allow as many people as possible to speak, speakers are requested to limit their remarks to 3 minutes. For those wishing to submit written comments, please follow the procedure noted above. This meeting will be open to the public. Individuals wishing to register must provide their name, affiliation, phone number, and e-mail address to Drew Dawson by e-mail at drew.dawson@dot.gov or by telephone at (202) 366-9966 no later than April 9, 2009. There will be limited call-in lines, so please register early. Pre-registration is necessary to enable proper arrangements.

Minutes of the NEMSAC Meeting will be available to the public online through the DOT Document Management System (DMS) at: http://www.regulations.gov under the docket number listed at the beginning of this notice.

Issued on: March 24, 2009.
Jeffrey P. Michael,
Associate Administrator for Research and Program Development.

[FR Doc. E9-6915 Filed 3-26-09; 8:45 am]

BILLING CODE 4910-59-P